DEPARTMENT OF DEFENSE

Department of the Army

Notice of Availability of the Record of Decision (ROD) for Army Growth and Force Structure Realignment To Support Operations in the Pacific Theater

AGENCY: Department of the Army, DoD.

ACTION: Notice of availability (NOA).

SUMMARY: The Department of the Army announces the availability of the ROD for Army Growth and Force Structure Realignment to Support Operations in the Pacific Theater. This ROD announces the Army's decisions for growing and realigning U.S. Army forces to support operations in the Pacific Theater, which covers more than 50 percent of the earth's surface and includes more than 39 countries. Pursuant to the National Environmental Policy Act (NEPA), the Department of the Army prepared a Supplemental Programmatic Environmental Impact Statement (SPEIS) that evaluated the potential environmental and socioeconomic effects associated with alternatives for Army growth and realignment. In the Final SPEIS (published July 24, 2008), the Army identified Alternative Two as the preferred alternative for implementing growth in U.S. Army Garrison Hawaii (USAG-HI) and Alternative Three as the preferred alternative for implementing growth in U.S. Army Garrisons in Alaska. The ROD explains that the Army will proceed with its preferred alternatives to station approximately 1,980 new Soldiers in Hawaii and approximately 2,200 in Alaska. This decision also validates previous decisions to station a 254 Soldier Expeditionary Sustainment Command (ESC) at Fort Lewis, Washington, and divert the stationing of a 570 Soldier Maneuver Enhancement Brigade (MEB) from Schofield Barracks, Hawaii, to Fort Drum, New York. These alternatives best support Army-wide modular transformation; support the National Defense and Security Strategies; add the necessary Combat Support (CS) and Combat Service Support (CSS) Soldiers to Army forces; and grow critical support brigades and headquarters to efficiently carry out missions in the Pacific Theater. The decisions contained within the ROD will result in a total growth of Army forces within the Pacific Theater by approximately 4,200 Soldiers and will realign forces to improve readiness and responsiveness to meet future challenges.

ADDRESSES: Comments or questions regarding the ROD can be sent to the Public Affairs Office, U.S. Army Environmental Command, Building E4460, Attention: IMAE-PA 5179 Hoadley Road, Aberdeen Proving Ground, MD 21010-5401.

FOR FURTHER INFORMATION CONTACT: Public Affairs Office at (410) 436-2556; facsimile at (410) 436-1693 (during normal business hours Monday through Friday).

SUPPLEMENTARY INFORMATION: In January 2007, President Bush asked Congress for authority to increase the overall strength of the Army by 74,200 Soldiers over the next five years. This growth will mitigate shortages in units, Soldiers, and time to train that would otherwise inhibit the Army from meeting readiness goals and supporting strategic requirements. In September 2007, the Secretary of Defense approved the Army's proposal to accelerate growth for the Active component and Army National Guard. The Army must grow, adjust its force structure, and station its units and Soldiers to meet the strategic requirements of the contemporary global security environment. To meet these needs, the Army has begun moving forward with growth and realignment of its forces in the continental U.S. The environmental impacts of these actions were studied in 2007 and the final ROD for growth and realignment actions in the continental U.S. was issued in January 2008. At that time, the unique mission requirements and special needs of the Pacific Theater were still being assessed. The Army has carefully considered the structure of its forces available to support operations in the Pacific Theater, an active operational theater as well as a force provider to global mission requirements. This decision is designed to ensure that the right capabilities are available to accomplish the wide range of theater mission requirements and uphold regional national security interests in the Pacific region.

The Final SPEIS was published in July 2008. It provided the Army senior leadership with an assessment of environmental and socioeconomic impacts associated with alternatives for implementing the Proposed Action, as well as feedback and concerns of the public. This information was considered as part of the decision-making process for selecting the final stationing locations for new units. Major training installations in the continental U.S. as well as garrison stationing locations in Hawaii and Alaska were considered for the stationing of additional units to support Proposed Action.

Stationing decisions included in the ROD for Army Growth and Force Structure Realignment to Support Operations in the Pacific Theater include: (1) The stationing of approximately 1,775 new CSICSS Soldiers to include a new MEB headquarters at Fort Richardson, Alaska; (2) The stationing of approximately 425 new CS/CSS Soldiers at Fort Wainwright, Alaska; (3) The stationing of approximately 1,680 new CS/CSS Soldiers including new Military Police and Engineer Brigade Headquarters units at Schofield Barracks, Hawaii; (4) The stationing of approximately 300 additional CS/CSS Soldiers at Fort Shafter, Hawaii; (5) The validation of the stationing of the ESC at Fort Lewis, Washington; (6) The validation of decisions to divert a MEB from Schofield Barracks, Hawaii to Fort Drum, New York.

The full text of the ROD and Final SPEIS are available at http://www.aec.army.mil.

Dated: September 10, 2008.
Addison D. Davis, IV,
Deputy Assistant Secretary of the Army, (Environment, Safety and Occupational Health).

[FR Doc. E8-21679 Filed 9-16-08; 8:45 am]

BILLING CODE 3710-08-M